DEPARTMENT OF COMMERCE

International Trade Administration

A-552-801

Certain Frozen Fish Fillets from the Socialist Republic of Vietnam: Initiation of Antidumping Duty New Shipper Review

AGENCY: Import Administration, International Trade Administration, Department of Commerce.

EFFECTIVE DATE: September 28, 2006.

SUMMARY: The Department of Commerce (the “Department”) has determined that a request for a new shipper review of the antidumping duty order on certain frozen fish fillets from the Socialist Republic of Vietnam (“Vietnam”), received on August 31, 2006, meets the statutory and regulatory requirements for initiation. The period of review (“POR”) of this new shipper review is August 1, 2005, through July 31, 2006.

FOR FURTHER INFORMATION CONTACT: Matthew Renkey, AD/CVD Operations, Office 9, Import Administration, International Trade Administration, U.S. Department of Commerce, 14th Street and Constitution Avenue, NW., Washington, DC 20230; telephone: (202) 482-2312.

SUPPLEMENTARY INFORMATION:

Background

The notice announcing the antidumping duty order on certain frozen fish fillets from Vietnam was published in the Federal Register on August 12, 2003. See Notice of Antidumping Duty Order: Certain Frozen Fish Fillets from the Socialist Republic of Vietnam, 68 FR 47909 (August 12, 2003).¹ On August 31, 2006, pursuant to 19 CFR 351.214(c), the Department received a new shipper review request from East Sea Seafoods Joint Venture Co., Ltd. (“East Sea”). East Sea certified that it is both the producer and exporter of the subject merchandise upon which the request for a new shipper review is based.

¹ Therefore, a request for a new shipper review based on the anniversary month, August, was due to the Department by the final day of August 2006. See 19 CFR 351.214(d)(1).

Pursuant to section 751(a)(2)(B)(i)(I) of the Tariff Act of 1930 as amended (“the Act”), and 19 CFR 351.214(b)(2)(i), East Sea certified that it did not export certain frozen fish fillets to the United States during the period of investigation (“POI”). In addition, pursuant to section 751(a)(2)(B)(i)(II) of the Act and 19 CFR 351.214(b)(2)(iii)(A), East Sea certified that, since the initiation of the investigation, it has never been affiliated with any Vietnamese exporter or producer who exported certain frozen fish fillets to the United States during the POI, including those not individually examined during the investigation. As required by 19 CFR 351.214(b)(2)(iii)(B), East Sea also certified that its export activities were not controlled by the central government of Vietnam.

In addition to the certifications described above, pursuant to 19 CFR 351.214(b)(2)(iv), East Sea submitted documentation establishing the following: (1) the date on which East Sea first shipped certain frozen fish fillets for export to the United States and the date on which the frozen warmwater shrimp was first entered, or withdrawn from warehouse, for consumption; (2) the volume of its first shipment;² and (3) the date of its first sale to an unaffiliated customer in the United States.

² East Sea made no subsequent shipments to the United States, which the Department corroborated using data from U.S. Customs and Border Protection (“CBP”).

The Department conducted CBP database queries to confirm that East Sea's shipment of subject merchandise had entered the United States for consumption and had been suspended for antidumping duties.

Initiation of New Shipper Reviews

Pursuant to section 751(a)(2)(B) of the Act and 19 CFR 351.214(d)(1), the Department finds that East Sea's request meets the threshold requirements for initiation of a new shipper review for the shipment of certain frozen fish fillets from Vietnam it produced and exported. See Memo to the File from Matthew Renkey, Senior Analyst, through Alex Villanueva, Program Manager, Office 9: New Shipper Review Initiation Checklist, dated September 26, 2006.

The POR for this new shipper review is August 1, 2006, through July 31, 2006. See 19 CFR 351.214(g)(1)(ii)(A). The Department intends to issue the preliminary results of this review no later than 180 days from the date of initiation, and final results of this review no later than 270 days from the date of initiation. See section 751(a)(2)(B)(iv) of the Act. Interested parties requiring access to proprietary information in this new shipper review should submit applications for disclosure under administrative protective order in accordance with 19 CFR 351.305 and 351.306. This initiation and notice are published in accordance with section 751(a)(2)(B) of the Act and 19 CFR 351.214 and 351.221(c)(1)(i).

Dated: September 22, 2006.
Stephen J. Claeys,
Deputy Assistant Secretary for Import Administration.

[FR Doc. E6-15939 Filed 9-27-06; 8:45 am]

BILLING CODE 3510-DS-S